DEPARTMENT OF HEALTH AND HUMAN SERVICES

Food and Drug Administration

[Docket No. FDA-2010-N-0001]

Joint Meeting of the Anesthetic and Life Support Drugs Advisory Committee and the Drug Safety and Risk Management Advisory Committee; Cancellation

AGENCY: Food and Drug Administration, HHS.

ACTION: Notice.

SUMMARY: The Joint Meeting of the Anesthetic and Life Support Drugs Advisory Committee and the Drug Safety and Risk Management Advisory Committee scheduled for December 2, 2010, is cancelled. This meeting was announced in the Federal Register of November 1, 2010 (75 FR 67093). This meeting has been cancelled because the Agency believes the information received from previous advisory committee meetings is adequate to allow the Agency to address the specific concerns in the application that were delineated in the Federal Register notice of November 1, 2010.

FOR FURTHER INFORMATION CONTACT: Kalyani Bhatt, Center for Drug Evaluation and Research, Food and Drug Administration, 10903 New Hampshire Ave., Bldg. 31, rm. 2417, Silver Spring, MD 20993-0002, 301-796-9001, FAX: 301-847-8533, e-mail: kalyani.bhatt@fda.hhs.gov, or FDA Advisory Committee Information Line, 1-800-741-8138 (301-443-0572 in the Washington, DC area), codes 3014512529 or 3014512535. Please call the Information Line for up-to-date information on this meeting.

Dated: November 15, 2010.
Joanne Less,
Acting Associate Commissioner for Special Medical Programs.

[FR Doc. 2010-29280 Filed 11-18-10; 8:45 am]

BILLING CODE 4160-01-P